DEPARTMENT OF THE TREASURY

Open Meeting of the President's Economic Recovery Advisory Board (the PERAB)

AGENCY: Departmental Offices.

ACTION: Notice of open meeting.

SUMMARY: The President's Economic Recovery Advisory Board will meet on October 4, 2010, in the White House Roosevelt Room, 1600 Pennsylvania Avenue, NW., Washington, DC, beginning at 2 p.m. Eastern Time. The meeting will be open to the public via live webcast at http://www.whitehouse.gov/live.

DATES: The meeting will be held on October 4, 2010 at 2 p.m. Eastern Time.

ADDRESSES: The PERAB will convene its next meeting in the White House Roosevelt Room, 1600 Pennsylvania Avenue, NW., Washington, DC. The public is invited to submit written statements to the Advisory Committee by any of the following methods:

Electronic Statements

• Send written statements to the PERAB's electronic mailbox at PERAB@do.treas.gov; or

Paper Statements

• Send paper statements in triplicate to John Oxtoby, Designated Federal Officer, President's Economic Recovery Advisory Board, Office of the Under Secretary for Domestic Finance, Room 1325A, Department of the Treasury, 1500 Pennsylvania Avenue, NW., Washington, DC 20220.

In general, all statements will be posted on the White House Web site (http://www.whitehouse.gov) without change, including any business or personal information provided such as names, addresses, e-mail addresses, or telephone numbers. The Department will also make such statements available for public inspection and copying in the Department's Library, Room 1428, Main Department Building, 1500 Pennsylvania Avenue, NW., Washington, DC 20220, on official business days between the hours of 10 a.m. and 5 p.m. Eastern Time. You can make an appointment to inspect statements by telephoning (202) 622-0990. All statements received, including attachments and other supporting materials, are part of the public record and subject to public disclosure. You should submit only information that you wish to make available publicly.

FOR FURTHER INFORMATION CONTACT: John Oxtoby, Designated Federal Officer, President's Economic Recovery Advisory Board, Office of the Under Secretary for Domestic Finance, Department of the Treasury, Main Department Building, 1500 Pennsylvania Avenue, NW., Washington, DC 20220, at (202) 622-2000.

SUPPLEMENTARY INFORMATION: In accordance with Section 10(a) of the Federal Advisory Committee Act, 5 U.S.C. App. II, § 10(a), and the regulations thereunder, John Oxtoby, Designated Federal Officer of the Advisory Board, has ordered publication of this notice that the PERAB will convene its next meeting on October 4, 2010, in the White House Roosevelt Room, 1600 Pennsylvania Avenue, NW., Washington, DC, beginning at 2 p.m. Eastern Time. The meeting will be broadcast on the Internet via live webcast at http://www.whitehouse.gov/live. The purpose of this meeting is to continue discussion of the issues impacting the strength and competitiveness of the Nation's economy. The PERAB will provide information and ideas obtained from across the country to promote the growth of the American economy, establish a stable and sound financial and banking system, create jobs, and improve the long-term prosperity of the American people.

Dated: September 14, 2010.
Alastair Fitzpayne,
Deputy Chief of Staff.

[FR Doc. 2010-23289 Filed 9-16-10; 8:45 am]

BILLING CODE 4810-25-P